NUCLEAR REGULATORY COMMISSION

[NRC-2010-0033; DC/COL-ISG-021]

Office of New Reactors; Final Interim Staff Guidance on the Review of Nuclear Power Plant Designs Using a Gas Turbine Driven Standby Emergency Alternating Current Power System

AGENCY: Nuclear Regulatory Commission (NRC).

ACTION: Notice of availability.

SUMMARY: The NRC staff is issuing its Final Interim Staff Guidance (ISG) DC/COL-ISG-021 titled “Interim Staff Guidance on the Review of Nuclear Power Plant Designs Using a Gas Turbine Driven Standby Emergency Alternating Current Power System,” Agencywide Documents Access and Management System (ADAMS) Accession No. ML102510119 for DC/COL-ISG-021 and ADAMS Accession No. ML102510164 for Attachment 1 to DC/COL-ISG-021. This ISG provides new guidance for applicants submitting a combined license (COL) or design certification (DC) application for new nuclear power reactors under Title 10 of the Code of Federal Regulations, part 52. In addition, it supplements the guidance provided to the NRC staff in NUREG-0800, “Standard Review Plan for the Review of Safety Analysis Reports for Nuclear Power Plants,” March 2007, Standard Review Plan (SRP), Section 8.3.1 and Sections 9.5.4 through 9.5.8. The NRC staff issues DC/COL-ISGs to facilitate activities associated with NRC review of applications for DCs and COLs. The NRC staff intends to incorporate DC/COL-ISG-021 into the next revision of SRP Section 8.3.1 and Sections 9.5.4 through 9.5.8 and Regulatory Guide 1.206, “Combined License Applications for Nuclear Power Plants (LWR Edition),” June 2007.

Disposition: On February 3, 2010, the NRC staff issued proposed DC/COL-ISG-021 on “Review of Nuclear Power Plant Designs Using a Gas Turbine Driven Standby Emergency Alternating Current Power System,” ADAMS Accession No. ML092640035. The NRC staff received comments on the proposed guidance. This final issuance resolves the majority of the comments. The NRC staff responses to these comments can be found in ADAMS Accession No. ML102510176.

ADDRESSES: The NRC maintains ADAMS, which provides text and image files of NRC's public documents. These documents may be accessed through the NRC's Public Electronic Reading Room on the Internet at http://www.nrc.gov/reading-rm/adams.html. Persons who do not have access to ADAMS or who encounter problems in accessing the documents located in ADAMS should contact the NRC Public Document Room reference staff at 1-800-397-4209, 301-415-4737, or by e-mail at pdr.resource@nrc.gov.

FOR FURTHER INFORMATION CONTACT: Mr. Samuel S. Lee, Chief, Balance of Plant Branch 2, Division of Safety Systems & Risk Assessment, U.S. Nuclear Regulatory Commission, Washington, DC 20555-0001; telephone at 301-415-0155 or e-mail at samuel.lee@nrc.gov.

SUPPLEMENTARY INFORMATION: The agency posts its issued staff guidance in the agency external Web page (http://www.nrc.gov/reading-rm/doc-collections/isg/).

Dated at Rockville, Maryland, this 22nd day of March 2011.
For the Nuclear Regulatory Commission,
William F. Burton,
Chief, Rulemaking and Guidance Development Branch, Division of New Reactor Licensing, Office of New Reactor.

[FR Doc. 2011-7206 Filed 3-25-11; 8:45 am]

BILLING CODE 7590-01-P